DEPARTMENT OF AGRICULTURE

Office of the Secretary

Notice of Appointment of Members to the National Agricultural Research, Extension, Education, and Economics Advisory Board

AGENCY: Research, Education, and Economics, USDA.

ACTION: Solicitation for membership.

SUMMARY: In accordance with the Federal Advisory Committee Act, 5 U.S.C. App., the United States Department of Agriculture announces solicitation for nominations to fill 6 vacancies on the National Agricultural Research, Extension, Education, and Economics Advisory Board.

DATES: Deadline for Advisory Board member nominations is August 25, 2008.

ADDRESSES: The nominee's name, resume, and completed Form AD-755 must be sent to the U.S. Department of Agriculture, National Research, Extension, Education, and Economics Advisory Board Office, 1400 Independence Avenue, SW., Room 344-A, Whitten Building, Washington, DC 20250-2255.

FOR FURTHER INFORMATION CONTACT: Karen Hunter, Executive Director, National Agricultural Research, Extension, Education, and Economics Advisory Board, 1400 Independence Avenue, SW., Room 344-A, Whitten Building, Washington, DC 20250-2255, telephone: 202-720-3684; fax: 202-720-6199; e-mail: khunter@csrees.usda.gov.

SUPPLEMENTARY INFORMATION: Section 1408 of the National Agricultural Research, Extension, and Teaching Policy Act of 1977 (7 U.S.C. 3123) was amended by the Farm Security and Rural Investment Act of 2008 by deleting six members to the National Agricultural Research, Extension, Education, and Economics Advisory Board, to total 25 members. Since the inception of the Advisory Board by congressional legislation in 1996, each member has represented a specific category related to farming or ranching, food production and processing, forestry research, crop and animal science, land-grant institutions, non-land grant college or university with a historic commitment to research in the food and agricultural sciences, food retailing and marketing, rural economic development, and natural resource and consumer interest groups, among many others. The Board was first appointed by the Secretary of Agriculture in September 1996 and one-third of its members were appointed for a one-, two-, and three-year terms, respectively. The terms for 6 members who represent specific categories will expire September 30, 2008. Nominations for a 3-year appointment for these 6 vacant categories are sought. All nominees will be carefully reviewed for their expertise, leadership, and relevance to a category.

The 6 slots to be filled are:

Category B. Farm Cooperatives

Category D. Plant Commodity Producer

Category G. National Aquaculture Association

Category J. National Food Science Organization

Category L. National Nutritional Science Society

Category M. Land-Grant Colleges and Universities-1862

Nominations are being solicited from organizations, associations, societies, councils, federations, groups, and companies that represent a wide variety of food and agricultural interests throughout the country. Nominations for one individual who fits several of the categories listed above, or for more than one person who fits one category, will be accepted. In your nomination letter, please indicate the specific membership category for each nominee. Each nominee must fill out a form AD-755, “Advisory Committee Membership Background Information” (which can be obtained from the contact person below or may be printed out from the following Web site: http://www.nareeeab.ree.usda.gov and then searching for “AD-755”). All nominees will be vetted before selection.

Nominations are open to all individuals without regard to race, color, religion, sex, national origin, age, mental or physical handicap, marital status, or sexual orientation. To ensure that recommendations of the Advisory Board take into account the needs of the diverse groups served by the Department, membership shall include, to the extent practicable, individuals with demonstrated ability to represent minorities, women, and persons with disabilities.

Appointments to the National Agricultural Research, Extension, Education, and Economics Advisory Board will be made by the Secretary of Agriculture.

Done at Washington, DC, this 10th day of July 2008.
Merle D. Pierson,
Deputy Under Secretary, Research, Education, and Economics.

[FR Doc. E8-16189 Filed 7-15-08; 8:45 am]

BILLING CODE 3410-03-P